DEPARTMENT OF ENERGY

Federal Energy Regulatory Commission

[Docket No. EG00-84-000, et al.]

Panda Gila River, L.P., et al., Electric Rate and Corporate Regulation Filings

January 27, 2000.

Take notice that the following filings have been made with the Commission:

1. Panda Gila River, L.P.

[Docket No. EG00-84-000]

Take notice that on January 20, 2000, Panda Gila River, L.P. (Panda Gila River), with its principal offices at 4100 Spring Valley Road, Suite 1001, Dallas, Texas 75244, filed with the Federal Energy Regulatory Commission, an application for determination of exempt wholesale generator status pursuant to Section 32 of the Public Utility Holding Company Act of 1935, as amended, and Part 365 of the Commission's regulations.

Panda Gila River is a Delaware limited partnership, which will construct, own and operate a 2000 MW natural gas-fired generating facility within the region governed by the Western System Coordinating Council (WSCC) and sell electricity at wholesale.

Comment date: February 17, 2000, in accordance with Standard Paragraph E at the end of this notice. The Commission will limit its consideration of comments to those that concern the adequacy or accuracy of the application.

2. e prime, inc.; IEP Power Marketing, LLC; CNG Retail Services Corporation; J. Anthony & Associates Ltd.; Energetix, Inc.; Environmental Resources Trust, Inc.; Burlington Resources Trading Inc.

[Docket No. ER95-1269-015; Docket No. ER95-802-019; Docket No. ER97-1845-011; Docket No. ER95-784-017; Docket No. ER97-3556-010; Docket No. ER98-3233-006; Docket No. ER96-3112-013]

Take notice that on January 19, 2000, the above-mentioned power marketers filed quarterly reports with the Commission in the above-mentioned proceedings for information only.

3. Union Electric Development Corporation; Central Hudson Enterprises Corporation; PacifiCorp Power Marketing, Inc.

[Docket No. ER97-3663-010; Docket No. ER97-2869-010; Docket No. ER95-1096-021]

Take notice that on January 20, 2000, the above-mentioned power marketers filed quarterly reports with the Commission in the above-mentioned proceedings for information only.

4. Bangor Energy Resale, Inc.

[Docket No. ER98-459-008]

Take notice that on January 18, 2000, Bangor Energy Resale, Inc. filed their quarterly report for the quarter ending December 31, 1999, for information only.

5. Central Maine Power Company; Lone Star Steel Sales Company; Northeast Empire Limited Partnership #1; Northeast Empire Limited Partnership #2; Grayling Generation Station L.P.

[Docket No. ER00-1161-000; Docket No. ER00-1162-000; Docket No. ER00-1163-000; Docket No. ER00-1164-000; Docket No. ER00-1165-000]

Take notice that on January 19, 2000, the above-mentioned affiliated power producers and/or public utilities filed their quarterly reports for the quarter ending December 31, 1999.

Comment date: February 16, 2000, in accordance with Standard Paragraph E at the end of this notice.

6. PEI Power Corp.; Ameren Services Company; Arizona Public Service Company; CH Resources, Inc.; Central and South West Services, Inc.; Maine Public Service Company

[Docket No. ER00-1173-000; Docket No. ER00-1179-000; Docket No. ER00-1180-000; Docket No. ER00-1181-000; Docket No. ER00-1189-000; Docket No. ER00-1190-000]

Take notice that on January 20, 2000, the above-mentioned affiliated power producers and/or public utilities filed their quarterly reports for the quarter ending December 31, 1999.

Comment date: February 16, 2000, in accordance with Standard Paragraph E at the end of this notice.

7. Puget Sound Energy, Inc.

[Docket No. ER00-1182-000]

Take notice that on January 20, 2000, Puget Sound Energy, Inc. (PSE), as Transmission Provider, tendered for filing a Service Agreement for Firm Point-To-Point Transmission Service (Firm Point-To-Point Service Agreement) and a Service Agreement for Non-Firm Point-To-Point Transmission Service (Non-Firm Point-To-Point Service Agreement) with PP&L Montana, LLC (PPLM), as Transmission Customer.

PSE requests that the Service Agreements become effective as of January 17, 2000.

A copy of the filing was served upon PPLM.

Comment date: February 9, 2000, in accordance with Standard Paragraph E at the end of this notice.

8. Central Vermont Public Service Corporation

[Docket No. ER00-1183-000]

Take notice that on January 20, 2000, Central Vermont Public Service Corporation (Central Vermont) tendered for filing a Service Agreement with TransCanda Power Marketing, Ltd. under its FERC Second Revised Electric Tariff Volume No. 8.

Central Vermont requests waiver of the Commission's regulations to permit the service agreement to become effective on January 10, 2000.

Comment date: February 9, 2000, in accordance with Standard Paragraph E at the end of this notice.

9. Old Dominion Electric Cooperative

[Docket No. ER00-1199-000]

Take notice that on January 21, 2000, Old Dominion Electric Cooperative filed their quarterly report for the quarter ending December 31, 1999.

Comment date: February 16, 2000, in accordance with Standard Paragraph E at the end of this notice.

10. Consolidated Edison Company of New York, Inc.

[Docket No. ES00-16-000]

Take notice that on January 21, 2000, Consolidated Edison Company of New York, Inc. filed an application under Section 204 of the Federal Power Act seeking authorization to issue unsecured short-term debt until December 31, 2001, in an amount not to exceed $800 million at any one time.

Comment date: February 10, 2000, in accordance with Standard Paragraph E at the end of this notice.

11. Santa Rosa Energy LLC

[Docket No. QF97-138-001]

Take notice that on January 21, 2000, Santa Rosa Energy LLC, located at Edens Corporate Center, 650 Dundee Road, Suite 350, Northbrook, IL 60062, filed with the Federal Energy Regulatory Commission (Commission) an application for certification of a qualifying cogeneration facility (facility) pursuant to 292.207(b) of the Commission's regulations. No determination has been made that the submittal constitutes a complete filing.

The facility, located at the Santa Rosa Energy Center, is a gas turbine combined cycle cogeneration facility that uses natural gas as its fuel source. The facility includes one combustion turbine generator, with a rated capacity of approximately 168,300 kW at ISO conditions, a heat recovery steam generator, and a condensing steam turbine generator rated at approximately 74,500 kW. The facility will be located in Pace, Florida, in the county of Santa Rosa.

The facility will interconnect directly with the transmission system of Gulf Power Company, located in Pensacola, Florida, and will sell its useful output at wholesale to Gulf Power Company as well as other various qualified buyers. Gulf Power Company will provide supplementary, standby, back-up and maintenance power to the Santa Rosa Energy Center.

Comment date: February 22, 2000, in accordance with Standard Paragraph E at the end of this notice.

12. Portland General Electric Company

[Docket No. ER98-1643-002]

Take notice that Portland General Electric Company (PGE), on January 19, 2000, tendered for filing proposed changes in its FERC Electric Service Tariff Rate schedule No. 11. The changes consist of restrictions on the sale of power between PGE, on one hand, and Sierra Pacific Power Company, Nevada Power Company, Sierra Pacific Energy Company, and Sierra Pacific Resources, on the other, based on the proposed acquisition of PGE by Sierra Pacific Resources.

Copies of the filing were served upon PGE's jurisdictional customers and the Oregon Public Utility Commission.

Comment date: February 9, 2000, in accordance with Standard Paragraph E at the end of this notice.

13. Detroit Edison Company

[Docket No. ER00-459-001]

Take notice that on January 29, 2000, Detroit Edison Company submitted a compliance filing in the above-referenced matter.

Comment date: February 8, 2000, in accordance with Standard Paragraph E at the end of this notice.

14. Nordic Marketing, L.L.C.

[Docket No. ER00-774-000]

Take notice that on December 21, 1999, and January 6, 2000, Nordic Marketing, L.L.C., tendered for filing supplemental information to its December 10, 1999, filing in the above-referenced docket.

Comment date: February 7, 2000, in accordance with Standard Paragraph E at the end of this notice.

15. Louisville Gas and Electric Company/Kentucky Utilities Company

[Docket No. ER00-957-000]

Take notice that on January 19, 2000, Louisville Gas and Electric Company/ Kentucky Utilities (LG&E/KU), tendered for filing an Amendment to its executed Service Agreement for Network Integration Transmission Service between LG&E/KU and East Kentucky Power Cooperative, Inc., under LG&E/KU's Open Access Transmission Tariff.

Comment date: February 9, 2000, in accordance with Standard Paragraph E at the end of this notice.

16. Potomac Electric Power Company

[Docket No. ER00-977-000]

Take notice that on January 19, 2000, Potomac Electric Power Company submitted a correction to Amendment No. 1 to its electric service agreement with Southern Maryland Electric Cooperative, Inc. The requested effective date of January 1, 2000 for Amendment No. 1, a rate reduction, was not changed.

Comment date: February 8, 2000, in accordance with Standard Paragraph E at the end of this notice.

17. Northern Indiana Public Service Company

[Docket No. ER00-1143-000]

Take notice that on January 19, 2000, Northern Indiana Public Service Company (Northern Indiana), tendered for filing a Service Agreement pursuant to its Power Sales Tariff with Northern States Power Company (NSP).

Northern Indiana has requested an effective date of January 20, 2000.

Copies of this filing have been sent to NSP, to the Indiana Utility Regulatory Commission, and to the Indiana Office of Utility Consumer Counselor.

Comment date: February 9, 2000, in accordance with Standard Paragraph E at the end of this notice.

18. Virginia Electric and Power Company

[Docket No. ER00-1151-000]

Take notice that on January 19, 2000, Virginia Electric and Power Company (Virginia Power), tendered for filing a Letter of Termination of the Service Agreement between Virginia Electric and Power Company and Southern Company Energy Marketing L.P. (Southern) dated January 1, 1997 and approved by the FERC in a letter order on June 11, 1997 under Docket No. ER97-2834-000.

Virginia Power respectfully requests an effective date of the termination of February 12, 2000, as requested by Southern.

Copies of the filing were served upon Southern Company Energy Marketing L.P., the Virginia State Corporation Commission and the North Carolina Utilities Commission.

Comment date: February 8, 2000, in accordance with Standard Paragraph E at the end of this notice.

19. Central Illinois Light Company

[Docket No. ER00-1152-000]

Take notice that on January 19, 2000, Central Illinois Light Company (CILCO), 300 Liberty Street, Peoria, Illinois 61602, tendered for filing with the Commission a substitute Index of Point-To-Point Transmission Service Customers under its Open Access Transmission Tariff and service agreements for one new customer, Powerex British Columbia Power Exchange Corporation.

CILCO requested an effective date of January 11, 2000, for the service agreements.

Copies of the filing were served on the affected customer and the Illinois Commerce Commission.

Comment date: February 8, 2000, in accordance with Standard Paragraph E at the end of this notice.

20. Ogden Martin Systems of Union, Inc.

[Docket No. ER00-1155-000]

Take notice that on January 19, 2000, Ogden Martin Systems of Union, Inc. (Ogden Union), tendered for filing a Power Sales Agreement by and between Sempra Energy Trading Corp. and Ogden Union as a service agreement under Ogden Union's Market Based Rate Tariff.

Comment date: February 8, 2000, in accordance with Standard Paragraph E at the end of this notice.

21. Duke Power a division of Duke Energy Corporation

[Docket No. ER00-1156-000]

Take notice that on January 19, 2000, Duke Power (Duke), a division of Duke Energy Corporation, tendered for filing a Service Agreement with PG&E Energy Trading-Power, L.P., for power sales at market-based rates. Duke requests that the proposed Service Agreement be permitted to become effective on January 6, 2000.

Duke states that this filing is in accordance with Part 35 of the Commission's Regulations and a copy has been served on the North Carolina Utilities Commission.

Comment date: February 8, 2000, in accordance with Standard Paragraph E at the end of this notice.

22. Duke Energy Corporation

[Docket No. ER00-1157-000]

Take notice that on January 19, 2000, Duke Energy Corporation (Duke), tendered for filing a Service Agreement with Consumers Energy Corporation, for Firm Transmission Service under Duke's Open Access Transmission Tariff.

Duke requests that the proposed Service Agreement be permitted to become effective on May 7, 1999.

Duke states that this filing is in accordance with Part 35 of the Commission's Regulations and a copy has been served on the North Carolina Utilities Commission.

Comment date: February 8, 2000, in accordance with Standard Paragraph E at the end of this notice.

23. Duke Energy Corporation

[Docket No. ER00-1158-000]

Take notice that on January 19, 2000, Duke Energy Corporation (Duke), tendered for filing a Service Agreement with Consumers Energy Corporation, for Firm Transmission Service under Duke's Open Access Transmission Tariff.

Duke requests that the proposed Service Agreement be permitted to become effective on May 7, 1999.

Duke states that this filing is in accordance with Part 35 of the Commission's Regulations and a copy has been served on the North Carolina Utilities Commission.

Comment date: February 8, 2000, in accordance with Standard Paragraph E at the end of this notice.

24. Duke Energy Corporation

[Docket No. ER00-1159-000]

Take notice that on January 19, 2000, Duke Energy Corporation (Duke), tendered for filing a Service Agreement with Tenaska Power Service Co., for Firm Transmission Service under Duke's Open Access Transmission Tariff.

Duke requests that the proposed Service Agreement be permitted to become effective on January 10, 2000.

Duke states that this filing is in accordance with Part 35 of the Commission's Regulations and a copy has been served on the North Carolina Utilities Commission.

Comment date: February 8, 2000, in accordance with Standard Paragraph E at the end of this notice.

25. Duke Energy Corporation

[Docket No. ER00-1160-000]

Take notice that on January 19, 2000, Duke Energy Corporation (Duke), tendered for filing a Service Agreement with PECO Energy Company (PECO), for Firm Transmission Service under Duke's Open Access Transmission Tariff.

Duke requests that the proposed Service Agreement be permitted to become effective on January 1, 2000.

Duke states that this filing is in accordance with Part 35 of the Commission's Regulations and a copy has been served on the North Carolina Utilities Commission.

Comment date: February 9, 2000, in accordance with Standard Paragraph E at the end of this notice.

26. Enron Energy Services, Inc.

[Docket No. ER00-1167-000]

Take notice that on January 19, 2000, Enron Energy Services, Inc. (EES), tendered for filing pursuant to Section 205 of the Federal Power Act, its FERC Electric Rate Schedule No. 3 for the Sale, Assignment or Transfer of Firm Transmission Rights (FTRs) to become effective as of February 1, 2000, EES requests a waiver of the 60-day notice requirement. The Rate Schedule authorizes EES to sell, assign or transfer FTRs in California. EES states that Rate Schedule No. 3 is filed in accordance with the Commission's order in California Independent System Operator Corporation, 89 FERC ¶ 61,153 (1999).

This filing was sent to the California Independent System Operator Corporation.

Comment date: February 9, 2000, in accordance with Standard Paragraph E at the end of this notice.

27. Southwestern Public Service Company

[Docket No. ER00-1168-000]

Take notice that on January 19, 2000, New Century Services, Inc. (NCS), on behalf of Southwestern Public Service Company (SPS), tendered for filing pursuant to Section 205 of the Federal Power Act and part 35 of the Commission's regulations, an agreed-upon rate reduction for full requirements service to Caprock Electric Cooperative, Inc., Central Valley Electric Cooperative, Inc., Farmers' Electric Cooperative, Inc., Lea County Electric Cooperative, Inc., Lyntegar Electric Cooperative, Inc., and Roosevelt Electric Cooperative, Inc. NCS also filed a Service Agreement for Network Transmission Service between SPS Wholesale Merchant Function and SPS Transmission Function.

NCS proposes that the filing become effective January 14, 2000.

Copies of this filing were served upon the affected purchasers under the rate schedules and the state commissions within whose jurisdiction SPS sells electricity under the affected rate schedules.

Comment date: February 9, 2000, in accordance with Standard Paragraph E at the end of this notice.

28. Tiverton Power Associates Limited Partnership

[Docket No. ER00-1171-000]

Take notice that on January 19, 2000, Tiverton Power Associates Limited Partnership (Tiverton), tendered for filing, under section 205 of the Federal Power Act, a rate schedule under which Tiverton will sell energy, capacity and ancillary services at market-based rates and will reassign of transmission capacity.

Tiverton requests an effective date for the proposed rate schedule concurrent with the commencement of operations at its generating facilities.

Comment date: February 9, 2000, in accordance with Standard Paragraph E at the end of this notice.

29. Williams Energy Marketing & Trading Company

[Docket No. ER00-1172-000]

Take notice that on January 19, 2000, Williams Energy Marketing&Trading Company (Williams EM&T), tendered for filing pursuant to Section 205 of the Federal Power Act (FPA), 16 U.S.C. § 824d (1994), and Part 35 of the Commission's Regulations, 18 CFR 35, revised pages to the Reliability Must-Run Service Agreements (RMR Agreements) between Williams EM&T and the California Independent System Operator Corporation (ISO) for certain RMR units located at the Alamitos, Huntington Beach, and Redondo Beach Generating Stations.

The purpose of the filing is to update Williams EM&T's existing RMR Agreements to reflect an extension of the existing RMR Agreements for a reduced number of RMR units for 2000, certain annual updates to Schedules A, B & D of the RMR Agreements, and changes to the personnel to receive notice pursuant to Schedule J of the RMR Agreements.

Williams EM&T requests waiver of the prior notice requirements of Section 35.3 of the Commission's Regulations, 18 CFR 35.3, to permit its revised RMR Agreements to become effective as of January 1, 2000.

Copies of the filing were served upon the ISO and Southern California Edison Company.

Comment date: February 9, 2000, in accordance with Standard Paragraph E at the end of this notice.

30. Northern States Power Company (Minnesota); Northern States Power Company; (Wisconsin)

[Docket No. ER00-1175-000]

Take notice that on January 20, 2000, Northern States Power Company (Minnesota) and Northern States Power Company (Wisconsin) (jointly NSP), tendered for filing a Network Operating Agreement and a Network Integration Transmission Service Agreement between NSP and City of Medford, WI—Medford Electric Utility.

NSP requests that the Commission accept the Agreements effective January 1, 2000, and requests waiver of the Commission's notice requirements in order for the agreements to be accepted for filing on the date requested.

Comment date: February 9, 2000, in accordance with Standard Paragraph E at the end of this notice.

31. AmerGen Energy Company, L.L.C.

[Docket No. ER00-1177-000]

Take notice on January 20, 2000, AmerGen Energy Company, L.L.C., tendered for filing a Reactive Power Compensation Agreement with GPU Energy under its FERC Electric Tariff Original Volume No. 1.

AmerGen is requesting an effective date of December 21, 1999, for the Reactive Power Compensation Agreement.

Comment date: February 9, 2000, in accordance with Standard Paragraph E at the end of this notice.

32. Tampa Electric Company

[Docket No. ER00-1178-000]

Take notice that on January 20, 2000, Tampa Electric Company (Tampa Electric), tendered for filing a service agreement with the City of Tallahassee, Florida (Tallahassee) under Tampa Electric's market-based sales tariff.

Tampa Electric requests that the service agreement be made effective on December 26, 1999.

Copies of the filing have been served on Tallahassee and the Florida Public Service Commission.

Comment date: February 9, 2000, in accordance with Standard Paragraph E at the end of this notice.

Standard Paragraphs

E. Any person desiring to be heard or to protest such filing should file a motion to intervene or protest with the Federal Energy Regulatory Commission, 888 First Street, NE, Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-2456 Filed 2-3-00; 8:45 am]

BILLING CODE 6717-01-P